DEPARTMENT OF THE INTERIOR

National Park Service

[NPS-WASO-NAGPRA-NPS0029883; PPWOCRADN0-PCU00RP14.R50000]

Notice of Inventory Completion: Baylor University's Mayborn Museum Complex, (Formerly Baylor University's Strecker Museum; formerly Baylor University Museum), Waco, TX; Correction

AGENCY: National Park Service, Interior.

ACTION: Notice.

SUMMARY: The Baylor University's Mayborn Museum Complex (formerly Baylor University's Strecker Museum; formerly Baylor University Museum) has corrected an inventory of human remains and associated funerary objects, published in a Notice of Inventory Completion in the Federal Register on March 1, 2019. This notice corrects the cultural affiliation. Lineal descendants or representatives of any Indian Tribe or Native Hawaiian organization not identified in this notice that wish to request transfer of control of these human remains and associated funerary objects should submit a written request to Baylor University's Mayborn Museum Complex. If no additional requestors come forward, transfer of control of the human remains and associated funerary objects to the Indian Tribes or Native Hawaiian organizations stated in this notice may proceed.

DATES: Lineal descendants or representatives of any Indian Tribe or Native Hawaiian organization not identified in this notice that wish to request transfer of control of these human remains and associated funerary objects should submit a written request with information in support of the request to Baylor University's Mayborn Museum Complex at the address in this notice by April 22, 2020.

ADDRESSES: Anita L. Benedict, Baylor University's Mayborn Museum Complex, One Bear Place #97154, Waco, TX 76798-7154, telephone (254) 710-4835, email anita_benedict@baylor.edu.

SUPPLEMENTARY INFORMATION: Notice is here given in accordance with the Native American Graves Protection and Repatriation Act (NAGPRA), 25 U.S.C. 3003, of the correction of an inventory of human remains and associated funerary objects under the control of Baylor University's Mayborn Museum Complex, Waco, TX. The human remains and associated funerary object were removed from a dry cave 25 miles northwest of Toyah, Reeves County, TX.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the cultural affiliation published in a Notice of Inventory Completion in the Federal Register (84 FR 7115-7116, March 1, 2019). An offer of disposition, which was followed by phone calls, emails, and brief in-person conversations, was extended to the Apache Tribe of Oklahoma; Fort McDowell Yavapai Nation, Arizona; Fort Sill Apache Tribe of Oklahoma; Mescalero Apache Tribe of the Mescalero Reservation, New Mexico; San Carlos Apache Tribe of the San Carlos Reservation, Arizona; Tonto Apache Tribe of Arizona; White Mountain Apache Tribe of the Fort Apache Reservation, Arizona; and the Yavapai-Apache Nation of the Camp Verde Indian Reservation, Arizona, hereby referred to as “The Tribes Whose Aboriginal Territory includes Reeves County, TX”, in compliance with 43 CFR 10.11 before a relationship of shared group identity could be established. Transfer of control of the items in this correction notice has not occurred.

Correction

In the Federal Register (84 FR 7116, March 1, 2019), column 2, paragraph 1 under the heading “Determinations Made by Baylor University's Mayborn Museum Complex” is corrected by replacing the paragraph with the following paragraph:

Officials of Baylor University's Mayborn Museum Complex have determined that:

• Pursuant to 25 U.S.C. 3001(9), the human remains described in this notice are Native American, based on the preservation, associated funerary object, and museum documentation.

• Pursuant to 25 U.S.C. 3001(9), the human remains described in this notice represent the physical remains of one individual of Native American ancestry.

• Pursuant to 25 U.S.C. 3001(3)(A), the one object described in this notice are reasonably believed to have been placed with or near individual human remains at the time of death or later as part of the death rite or ceremony.

• Pursuant to 25 U.S.C. 3001(2), a relationship of shared group identity can be reasonably traced between the Native American human remains and associated funerary object and the Tonkawa Tribe of Indians of Oklahoma, based on geography and oral tradition.

Additional Requestors and Disposition

Representatives of any Indian Tribe or Native Hawaiian organization not identified in this notice that wish to request transfer of control of these human remains and associated funerary object should submit a written request with information in support of the request to Anita L. Benedict, Baylor University's Mayborn Museum Complex, One Bear Place #97154, Waco, TX 76798-7154, telephone (254) 710-4835, email anita_benedict@baylor.edu, by April 22, 2020. After that date, if no additional requestors have come forward, transfer of control of the human remains and associated funerary object to the Tonkawa Tribe of Indians of Oklahoma may proceed.

The Baylor University's Mayborn Museum Complex is responsible for notifying The Consulted Tribes and The Tribes Whose Aboriginal Territory includes Reeves County, TX, that this notice has been published.

Dated: February 19, 2020.
Melanie O'Brien,
Manager, National NAGPRA Program.

[FR Doc. 2020-06034 Filed 3-20-20; 8:45 am]

BILLING CODE 4312-52-P